DEPARTMENT OF ENERGY

Federal Energy Regulatory Commission

[Docket No. EG00-117-000, et al.]

Ameren Energy Generating Company, et al.; Electric Rate and Corporate Regulation Filings

March 28, 2000.

Take notice that the following filings have been made with the Commission:

1. Ameren Energy Generating Company

[Docket No. EG00-117-000]

Take notice that on March 23, 2000, Ameren Energy Generating Company (Generating Co.), c/o Ameren Services, 1901 Chouteau Avenue, St. Louis, MO 63166, filed with the Federal Energy Regulatory Commission an application for determination of exempt wholesale generator status pursuant to part 365 of the Commission's regulations. Generating Co. proposes to acquire five electric generating stations currently owned by Central Illinois Public Service Company (AmerenCIPS) with approximately 2900 MW of generating capacity, as well as certain additional generating units, and to sell all of the electric energy available from those units at wholesale. The transfer to Generating Co. of generating units owned by AmerenCIPS is intended to implement the Illinois Electric Service Customer Choice and Rate Relief Law of 1997. State Commission determinations allowing such facilities to become eligible facilities have been issued by the Illinois Commerce Commission and the Missouri Public Service Commission.

Comment date: April 18, 2000, in accordance with Standard Paragraph E at the end of this notice. The Commission will limit its consideration of comments to those that concern the adequacy or accuracy of the application.

2. Indeck Colorado, LLC

[Docket No. EG00-118-000]

Take notice that on March 23, 2000, Indeck Colorado, LLC (Indeck Colorado) filed with the Federal Energy Regulatory Commission an application for determination of exempt wholesale generator status pursuant to Section 32 of the Public Utility Holding Company Act of 1935 and part 365 of the Commission's regulations.

Comment date: April 18, 2000, in accordance with Standard Paragraph E at the end of this notice. The Commission will limit its consideration of comments to those that concern the adequacy or accuracy of the application.

3. Western Power Trading Forum, Complainant, v. California Independent System Operator Corporation, Respondent

[Docket No. EL00-58-000]

Take notice that on March 24, 2000, the Western Power Trading Forum (Complainant) filed a complaint and request for expedited relief under Sections 206 and 306, et seq., of the Federal Power Act, 16 U.S.C. 824e and 825e (1994), and Section 206 of the Commission's Rules of Practice and Procedure, 18 CFR 385.206, alleging that the Grid Management Charge of the California Independent System Operator Corporation (ISO) is unjust, unreasonable, unduly discriminatory, anticompetitive, excessive, and in violation of a prior ISO settlement approved in Docket Nos. ER98-211-000, et al.

Comment dates: April 13, 2000, in accordance with Standard Paragraph E at the end of this notice. Answers to the Complaint shall also be due on or before April 13, 2000.

4. Western Systems Power Pool

[Docket No. ER91-195-041]

Take notice that on March 23, 2000, the Western Systems Power Pool (WSPP) filed certain information to update its January 31, 2000 quarterly filing. This data is required by Ordering Paragraph (D) of the Commission's June 27, 1991 Order (55 FERC ¶61,495) and Ordering Paragraph (C) of the Commission's June 1, 1992 Order On Rehearing Denying Request Not To Submit Information, And Granting In Part And Denying In Part Privileged Treatment. Pursuant to 18 CFR 385.211, WSPP has requested privileged treatment for some of the information filed consistent with the June 1, 1992 order. Copies of WSPP's informational filing are on file with the Commission, and the non-privileged portions are available for public inspection.

5. CinCap VII, LLC

[Docket No. ER00-1831-001]

Take notice that on March 23, 2000, CinCap VII, LLC (CinCap VII) submitted an amendment to its application for approval of CinCap VII's Rate Schedule FERC No. 1 providing for market-based capacity and energy sales at wholesale, transmission capacity reassignment and the sale of ancillary services at market-based rates.

Comment date: April 13, 2000, in accordance with Standard Paragraph E at the end of this notice.

6. CinCap VIII, LLC

[Docket No. ER00-1834-001]

Take notice that on March 23, 2000, CinCap VIII, LLC (CinCap VIII) submitted an amendment to its application for approval of CinCap VIII's Rate Schedule FERC No. 1 providing for market-based capacity and energy sales at wholesale, transmission capacity reassignment and the sale of ancillary services at market-based rates.

Comment date: April 13, 2000, in accordance with Standard Paragraph E at the end of this notice.

7. Virginia Electric and Power Company

[Docket No. ER00-1940-000]

Take notice that on March 22, 2000, Virginia Electric and Power Company (Virginia Power) tendered for filing the following:

1. Service Agreement for Firm Point-to-Point Transmission Service by Virginia Electric and Power Company to Allegheny Energy Supply Company, LLC.

2. Service Agreement for Firm Point-to-Point Transmission Service by Virginia Electric and Power Company to Allegheny Energy Supply Company, LLC.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of March 22, 2000, the date of filing of the Service Agreements.

Copies of the filing were served upon Allegheny Energy Supply Company, LLC, the Virginia State Corporation Commission and the North Carolina Utilities Commission.

Comment date: April 12, 2000, in accordance with Standard Paragraph E at the end of this notice.

8. Entergy Services, Inc.

[Docket No. ER00-1947-000]

Take notice that on March 23, 2000, Entergy Services, Inc., on behalf of Entergy Arkansas, Inc., Entergy Gulf States, Inc., Entergy Louisiana, Inc., Entergy Mississippi, Inc., and Entergy New Orleans, Inc. (together Entergy) filed an amendment to its Open Access Transmission Tariff (OATT). Entergy states that the purpose of the proposed OATT amendment is to implement the retail access pilot program in Texas (Texas Pilot). The changes to the OATT are designed to provide unbundled transmission access to retail customers participating in Texas Pilot. Entergy states that it has conformed the amendment to be consistent with prior OATT retail access amendments accepted by the Federal Energy Regulatory Commission.

Entergy requests an effective date of June 1, 2001, for the amendment, to coincide with the commencement of the Texas Pilot.

Entergy has served a copy of this filing on its state and local regulatory commissions and its OATT customers.

Comment date: April 13, 2000, in accordance with Standard Paragraph E at the end of this notice.

9. Tampa Electric Company

[Docket No. ER00-1949-000]

Take notice that on March 23, 2000, Tampa Electric Company (Tampa Electric) filed a Notice of Termination of a letter of commitment under interchange service Schedule D between Tampa Electric and the City of Fort Meade, Florida (Fort Meade).

Copies of the filing have been served on Fort Meade and the Florida Public Service Commission.

Comment date: April 13, 2000, in accordance with Standard Paragraph E at the end of this notice.

10. Entergy Services, Inc.

[Docket No. ER00-1948-000]

Take notice that on March 23, 2000, Entery Services, Inc. (Entergy Services), on behalf of Entergy Arkansas, Inc. (EAI) (formerly Arkansas Power & Light Company), tendered for filing a 2000 Wholesale Formula Rate Update (Update) in accordance with the Power Coordination, Interchange and Transmission Service Agreements between EAI and the cities of Conway, West Memphis and Osceola, Arkansas (Arkansas Cities); the cities of Campbell and Thayer, Missouri (Missouri Cities), and the Arkansas Electric Cooperative Corporation (AECC); the Transmission Service Agreement between EAI and the Louisiana Energy and Power Authority (LEPA); the Transmission Service Agreement between EAI and the City of Hope, Arkansas (Hope); the Hydroelectric Power Transmission and Distribution Service Agreement between EAI and the City of North Little Rock, Arkansas (North Little Rock); the Wholesale Power Service Agreement between EAI and the City of Prescott, Arkansas (Prescott) and the Wholesale Power Service Agreement between EAI and Farmers Electric Cooperative Corporation (Farmers). Entergy Services states that the Update redetermines the formula rate charges and Transmission Loss factor in accordance with: (1) The above agreements, (2) the 1994 Joint Stipulation between EAI and AECC accepted by the Commission in Docket No. ER95-49-000, as revised by the 24th Amendment to the AECC Agreement accepted by the Commission on March 26, 1996 in Docket No. ER96-1116-000, (3) the formula rate revisions accepted by the Commission on February 21, 1995 in Docket No. ER95-363-000 as applicable to the Arkansas Cities, Missouri Cities, Hope and North Little Rock, (4) the formula revisions as applicable to LEPA accepted by the Commission on January 10, 1997 in Docket No. ER97-257-000, and (5) the Settlement Agreement accepted by the Commission on July 2, 1999 in Docket No ER98-2028-000 (the 1998 Formula Rate Update proceeding).

Comment date: April 13, 2000, in accordance with Standard Paragraph E at the end of this notice.

11. Tampa Electric Company

[Docket No. ER00-1950-000]

Take notice that on March 23, 2000, Tampa Electric Company (Tampa Electric) filed a Notice of Termination of a letter of commitment under interchange service Schedule D between Tampa Electric and the City of Wauchula, Florida (Wauchula).

Copies of the filing have been served on Wauchula and the Florida Public Service Commission.

Comment date: April 13, 2000, in accordance with Standard Paragraph E at the end of this notice.

12. Tampa Electric Company

[Docket No. ER00-1951-000]

Take notice that on March 23, 2000, Tampa Electric Company (Tampa Electric) tendered for filing a service agreement with Cargill-Alliant, LLC (Cargill-Alliant) under Tampa Electric's market-based sale tariff. Tampa Electric requests that the service agreement be made effective on March 23, 2000.

Copies of the filing have been served on Cargill-Alliant and the Florida Public Service Commission.

Comment date: April 13, 2000, in accordance with Standard Paragraph E at the end of this notice.

13. Indeck Colorado, LLC

[Docket No. ER00-1952-000]

Take notice that on March 23, 2000, Indeck Colorado, LLC, filed an initial rate schedule to sell power at market-based rates and two purchase agreements with Public Service Company of Colorado under said rate schedule.

Comment date: April 13, 2000, in accordance with Standard Paragraph E at the end of this notice.

14. Ameren Services Company

[Docket No. ER00-00-1953-000]

Take notice that on March 23, 2000, Ameren Services Company (ASC) tendered for filing Service Agreements for Firm Point-to-Point Transmission Services between ASC and Central Illinois Light Company marketing, Central Illinois Light Company Retail and Cargill-Alliant, LLC (the parties). ASC asserts that the purpose of the Agreements is to permit ASC to provide transmission service to the parties pursuant to Ameren's Open Access Transmission Tariff.

Comment date: April 13, 2000, in accordance with Standard Paragraph E at the end of this notice.

15. Ameren Services Company

[Docket No. ER00-1954-000]

Take notice that on March 23, 2000, Ameren Services Company (ASC) tendered for filing a Service Agreement for Long-Term Firm Point-to-Point Transmission Services between ASC and Ameren Energy, Inc. as agent for Ameren Services Company (customer). ASC asserts that the purpose of the Agreement is to permit ASC to provide transmission service to customer pursuant to Ameren's Open Access Transmission Tariff.

ASC requests that the Service Agreement become effective March 10, 2000.

Comment date: April 13, 2000, in accordance with Standard Paragraph E at the end of this notice.

16. Ameren Services Company

[Docket No. ER00-1955-000]

Take notice that on March 23, 2000, Ameren Services Company (ASC) tendered for filing Service Agreements for Non-Firm Point-to-Point Transmission Services between ASC and Central Illinois Light Company Marketing, Central Illinois Light Company Retail and Cargill-Alliant, LLC (the parties). ASC asserts that the purpose of the Agreements is to permit ASC to provide transmission service to the parties pursuant to Ameren's Open Access Transmission Tariff.

Comment date: April 13, 2000, in accordance with Standard Paragraph E at the end of this notice.

17. Entergy Services, Inc.

[Docket No. ER00-1956-000]

Take notice that on March 23, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-to-Point Transmission Service Agreement and a Short-Term Firm Point-to-Point Transmission Service Agreement, both between Entergy Services, Inc., as agent for the Entergy Operating Companies, and Conectiv Energy Supply, Inc.

Entergy Services, Inc. requests that the Service Agreements become effective by March 14, 2000.

Comment date: April 13, 2000, in accordance with Standard Paragraph E at the end of this notice.

18. Dayton Power and Light Company

[Docket No. ER00-1957-000]

Take notice that on March 23, 2000, The Dayton Power and Light Company (DP&L) tendered for filing an Interconnection Agreement with DP&L Energy, Inc.

DP&L requests that the Agreement become effective on March 24, 2000.

Comment date: April 13, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-8268 Filed 4-3-00; 8:45 am]

BILLING CODE 6717-01-M